DEPARTMENT OF THE INTERIOR

National Park Service

[2280-665]

National Register of Historic Places; Notification of Pending Nominations and Related Actions

Nominations for the following properties being considered for listing or related actions in the National Register were received by the National Park Service before January 1, 2011. Pursuant to §§ 60.13 or 60.15 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by February 14, 2011.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

FLORIDA

De Soto County

Ralls, William Oswell, House, 640 W. Whidden St., Arcadia, 11000001

Orange County

Woman's Club of Ocoee, (Clubhouses of Florida's Woman's Clubs MPS) 10 N. Lakewood Ave., Ocoee, 11000002

IOWA

Dubuque County

Upper Main Street Historic District (Boundary Increase), (Dubuque, Iowa MPS) 909, 951, 955, 965 Main St., Dubuque, 11000003

KENTUCKY

Henderson County

Hart, J. Hawkins, House, 630 St., Henderson, 11000005

Jefferson County

McBride's Harrods Creek Landing, 5913 River Rd., Harrods Creek, 11000006

Miller Paper Company Buildings, 118-122 E. Main St., Louisville, 11000007

Most Blessed Sacrament School, 1128 Berry Blvd., Louisville, 11000008

Letcher County

Jenkins School, 75 Pane St., Jenkins, 11000004

LOUISIANA

Lincoln Parish

Ruston USO, 212 N. Trenton St., Suite #1, Ruston, 11000009

MISSOURI

Jackson County

Bellefontaine Avenue Historic District, 500-24 Bellefontaine Ave., Kansas City, 11000010

Imperial Brewing Company Brewery, (Railroad Related Historic Commercial and Industrial Resources in Kansas City, Missouri MPS) 2825 Southwest Blvd., Kansas City, 11000011

St. Louis Independent City

Cass Bank and Trust Company, 1450 N. 13th St., St. Louis (Independent City), 11000012

MONTANA

Carbon County

Bearcreek Cemetery, 1 mi. W. of Bearcreek, Bearcreek, 11000017

NEBRASKA

Otoe County

Mayhew Cabin, 2012 4th Corso, Nebraska City, 11000013

NEW YORK

Suffolk County

Plum Island Light Station, (Light Stations of the United States MPS) N.W. corner of Plum Island, Orient Point, 11000014

PUERTO RICO

Anasco Municipality

Puente de Anasco, (Historic Bridges of Puerto Rico MPS) PR 2 at kilometer 146.1, Anasco, 11000018

SOUTH CAROLINA

Union County

Gist, Nathaniel, House, 162 Fant Acres Rd., Union, 11000015

WASHINGTON

Whatcom County

Skagit River and Newhalem Creek Hydroelectric Projects (Boundary Increase), WA 20 Corridor, Newhalem, 11000016

[FR Doc. 2011-1848 Filed 1-27-11; 8:45 am]

BILLING CODE 4312-51-P